DEPARTMENT OF COMMERCE

National Oceanic and Atmospheric Administration

Proposed Information Collection; Comment Request; Atlantic Sea Scallops Amendment 10 Data Collection

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 19, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Ryan Silva, 978-281-9326 or Ryan.Silva@noaa.gov.

SUPPLEMENTARY INFORMATION:

I. Abstract

The National Marine Fisheries Service (NMFS) Northeast Region manages the Atlantic sea scallop (scallop) fishery of the Exclusive Economic Zone (EEZ) off the East Coast under the Atlantic Sea Scallop Fishery Management Plan (FMP). The regulations implementing the FMP are at 50 CFR part 648. This collection, Amendment 10, was merged with Framework Adjustments 14, 15, 16, 17 and 18 of the FMP.

Amendment 10 included new access area broken trip notification requirements and access area trip exchange procedures for limited access vessels participating in the Area Access Program.

Framework Adjustments 14 and 15 required occasional scallop vessels that participate in the Area Access Program to install a vessel monitoring system (VMS) unit.

Framework Adjustment 16 required the installation of VMS units on general category scallop vessels participating in the Area Access Program. These vessels are required to declare an access area trip prior to departure and to report daily catch information while on an access area trip.

Framework Adjustment 17 extended the VMS reporting requirements to include the general category vessels that possess or land more than 40 lbs. of scallop meats. The VMS is required to be fully automatic and operational at all times, unless exempted under the power-down exemption. These vessels are required to declare a trip prior to departure and to report daily catch information while on an access area trip.

Framework Adjustment 18 required vessels taking broken trip compensation trips to enter a unique trip identification code into their VMS units prior to departure.

II. Method of Collection

VMS transmissions, paper applications, telephone calls and/or E-mail are required from participants. Facsimile transmission of paper forms, mail, E-mail, and/or express mail are the methods of information submittal.

III. Data

OMB Number: 0648-0491.

Form Number: None.

Type of Review: Regular submission.

Affected Public: Business or other for-profit organizations.

Estimated Number of Respondents: 1,296.

Estimated Total Responses: 235,998.

Estimated Time Per Response: 2 minutes.

Estimated Total Hours: 7,837.

Estimated Total Annual Cost to Public: $1,242,440.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 11, 2007.
Gwellnar Banks,
Management Analyst, Office of the Chief Information Officer.

[FR Doc. E7-488 Filed 1-16-07; 8:45 am]

BILLING CODE 3510-22-P